DEPARTMENT OF JUSTICE

Notice of Reestablishment of the Charter of the Task Force on Research on Violence Against American Indian and Alaska Native Women

AGENCY: Office on Violence Against Women, United States Department of Justice.

ACTION: Notice of renewal of charter.

SUMMARY: The charter of the Task Force on Research on Violence Against American Indian and Alaska Native Women (hereinafter “the Task Force”) has been reestablished.

FOR FURTHER INFORMATION CONTACT: Sherriann C. Moore, Deputy Director, Tribal Affairs Division, Office on Violence Against Women, United States Department of Justice, 145 N Street NE, Suite 10W.121, Washington, DC 20530, (202) 307-6026.

SUPPLEMENTARY INFORMATION: Authority for the Task Force is found in section 904(a)(3) of the Violence Against Women Act of 2005 (VAWA 2005), Public Law 109-162 (codified at 34 U.S.C. 10452 note) as amended by Section 907(a) of the Violence Against Women Reauthorization Act, Public Law 113-4. The Task Force operates under the provisions of the Federal Advisory Committee Act of 1972, as amended (codified at 5 U.S.C. chapter 10).

The Deputy Attorney General has determined that the reestablishment of the Task Force is necessary and in the public interest and will provide information that will assist the National Institute of Justice (NIJ) to develop and implement a program of research on violence against American Indian and Alaska Native women, including domestic violence, dating violence, sexual assault, stalking, murder and sex trafficking. The research will evaluate the effectiveness of the Federal, State, and Tribal response to violence against American Indian and Alaska Native women and will propose recommendations to improve these responses. Title IX of VAWA 2005 also required the Attorney General to establish a Task Force to assist NIJ with development of the research study and the implementation of the recommendations.

The Attorney General, acting through the Director of the Office on Violence Against Women, originally established the Task Force on March 31, 2008. The charter to reestablish the Task Force was filed with the Agency on June 18, 2024 and was filed with Congress on July 11, 2024. The charter was re-filed with Congress with a technical amendment on July 29, 2024. The Task Force is comprised of representatives from national Tribal domestic violence and sexual assault nonprofit organizations, Tribal governments, and national Tribal organizations. Task Force members, with the exception of travel and per diem for official travel, shall serve without compensation.

The Deputy Director, Tribal Affairs Division, Office on Violence Against Women, shall serve as the Designated Federal officer for the Task Force.

Rosemarie Hidalgo,
Director, Office on Violence Against Women.

[FR Doc. 2024-17725 Filed 8-8-24; 8:45 am]

BILLING CODE 4410-FX-P